DEPARTMENT OF ENERGY

Federal Energy Regulatory Commission

[Docket No. CP01-39-000]

Koch Gateway Pipeline Company; Notice of Request Under Blanket Authorization

December 5, 2000.

Take notice that on November 29, 2000, Koch Gateway Pipeline Company (Koch Gateway), P.O. Box 1478, Houston, Texas 77251-1478, filed in Docket No. CP01-39-000 a request pursuant to Sections 157.205 and 157.211 of the Commission's Regulation under the Natural Gas Act (18 CFR Sections 157.205 and 157.211) for authorization to install new delivery point facilities in Baldwin County, Alabama in order to accommodate deliveries of natural gas to the City of Daphine, Albama (Daphine), under Koch Gateway's blanket certificate issued in Docket No. CP82-430-000 pursuant to Section 7 of the Natural Gas Act, all as more fully set forth in the request which is on file with the Commission and open to public inspection. This filing may be viewed on the web at http://www.ferc.fed.us/online/rims.htm. Call (202) 208-2222 for assistance.

Koch Gateway states that the City of Daphine is currently served by the City of Fairhope, Alabama. It is explained that the proposed facilities consist of a 4-inch tap, valve and a flow computer, and it is stated that Koch Gateway will construct, own and operate the facilities. It is asserted that the facilities will have a maximum daily capacity of 7,500 Mcf. It is further asserted that Koch Gateway has sufficient capacity to make the deliveries without detriment or disadvantage to its other customers. Koch Gateway estimates the cost of the proposed facilities at $39,468. Koch Gateway states that its FERC Gas Tariff does not prohibit the addition of new delivery points. It is explained that Koch Gateway will transport gas under Section 284 of the Commission's Regulations and will make deliveries to Daphine on a firm or no notice basis.

Any questions regarding the application should be directed to Kyle Stephens, Director of Certificates, at Koch Gateway Pipeline Company, P.O. Box 1478, Houston, Texas 77251-1478, (713) 544-4123.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to section 7 of the Natural Gas Act. Beginning November 1, 2000, comments and protests may be filed electronically via the internet in lieu of paper. See 18 CFR 385.2001(a)(1)(iii) and the instructions on the Commission's web site at http://www.ferc.fed.us/efi/doorbell.htm.

David P. Boergers,
Secretary.

[FR Doc. 00-31423 Filed 12-8-00; 8:45 am]

BILLING CODE 6717-01-M